CONSUMER PRODUCT SAFETY COMMISSION

16 CFR Part 1216

Safety Standard for Infant Walkers; Correction

AGENCY: Consumer Product Safety Commission.

ACTION: Final rule; correction.

SUMMARY: The United States Consumer Product Safety Commission (“CPSC” or “Commission”) is correcting a final rule that appeared in the Federal Register of June 21, 2010 (75 FR 35266). The document established a standard for infant walkers. The Commission is correcting a typographical error in one provision and correcting another provision concerning warning statements on walkers with parking brakes.

DATES: Effective on December 21, 2010.

FOR FURTHER INFORMATION CONTACT: Carolyn Manley, Office of Compliance and Field Operations, Consumer Product Safety Commission, 4330 East West Highway, Bethesda, MD 20814; telephone (301) 504-7607; cmanley@cpsc.gov.

SUPPLEMENTARY INFORMATION: In the Federal Register of June 21, 2010 (75 FR 35266), the Commission published a final rule establishing a standard for infant walkers pursuant to section 104(b) of the Consumer Product Safety Improvement Act of 2008. The final rule contained two errors which the Commission is now correcting.

The first correction pertains to § 1216.2(b)(11)(i) regarding the position of the walker's wheels during testing. The first sentence in § 1216.2(b)(11)(i) refers to “Plane B,” but the last sentence in the same section refers, incorrectly, to “Plane A” (see 75 FR at 35275 (col. 3) through 35276 (col. 2)). The Commission is correcting the rule to refer to “Plane B” in the last sentence.

Another provision, at § 1216.2(b)(21)(i), concerning a warning statement for walkers with parking brakes omitted a phrase indicating that the warning is only required for walkers that have parking brakes. The preamble to the final rule correctly noted that the warning is to apply if a walker has a parking brake (see 75 FR at 35271). This document makes the necessary corrections.

In FR Doc. 2010-14323 appearing on page 35266 in the Federal Register of Monday, June 21, 2010, the following correction is made:

§ 1216.2 [Corrected]

1. On page 35276, in the second column, in § 1216.2 Requirements for infant walkers, in paragraph (b)(11)(i), “Position the swivel wheels in such a way that the walker moves sideward in a straight line parallel to Plane A.” is corrected to read “Position the swivel wheels in such a way that the walker moves sideward in a straight line parallel to Plane B.”

2. On page 35278, in the third column, in § 1216.2 Requirements for infant walkers, in paragraph (b)(21)(i), “A warning statement shall address the following” is corrected to read “If the walker is equipped with a parking brake, a warning statement shall address the following.”

Dated: August 13, 2010.
Todd Stevenson,
Secretary, U.S. Consumer Product Safety Commission.

[FR Doc. 2010-20593 Filed 8-18-10; 8:45 am]

BILLING CODE 6355-01-P